DEPARTMENT OF LABOR

Employment and Training Administration

Proposed Information Collection Request Submitted for Public Comment and Recommendations; State Alien Labor Certification Activity Report

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension to the collection of information on the Attestations by Facilities Temporarily Employing H-1C Nonimmigrant Aliens as Registered Nurses. A copy of the proposed information collection request (ICR) can be obtained by contacting the office listed below in the addressee section of this notice.

DATES: Written comments must be submitted to the office listed in the addressee section below on or before March 12, 2001.

ADDRESSES: Comments and questions regarding the collection of information on Form ETA 9081, Attestations by Facilities Temporarily Employing H-1C Nonimmigrant Aliens as Registered Nurses, should be directed to Dale M. Ziegler, Chief, Division of Foreign Labor Certifications, U.S. Department of Labor, 200 Constitution Avenue, NW., Room C-4318, Washington, DC 20210 ((202) 693-3010 (this is not a toll-free number)).

SUPPLEMENTARY INFORMATION:

I. Background

The information collection is required due to amendments creating a new H-1C nonimmigrant classification for aliens temporarily employed as registered nurses in the U.S. under section 212(m) of the Immigration and Nationality Act (8 U.S.C. 1101 et seq.) (INA). The amendments by the Nursing Relief for Disadvantaged Areas Act of 1999, pertain to a health care facility's: Qualification to employ H-1C nurses; payment of a wage which will not adversely affect wages and working conditions of similarly employed registered nurses; payment of wages to aliens at rates paid to other registered nurses similarly employed by the facility; taking timely and significant steps designed to recruit and retain U.S. nurses in order to reduce dependence on nonimmigrant nurses; absence of a strike/lockout or lay off of nurses; notice to workers of its intent to petition for H-1C nurses; percentages of H-1C nurses to be employed at the facility; and placement of H-1C nurses within the facility.

Facilities must submit attestations to the Department of Labor (Department) as a condition for petitioning the Immigration and Naturalization Service for H-1C nonimmigrant nurses. Within the Department, the attestation process is administered by the Employment and Training Administration, while investigations and enforcement regarding the attestations is handled by the Employment Standards Administration.

The INA further requires that the Department make available for public examination in Washington, DC, a list of employers which have filed attestations, and for each such employer, a copy of the employer's attestation and accompanying documentation it has received.

II. Review Focus

The Department of Labor is particularly interested in comments which:

• Evaluate whether the proposed information collection is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

III. Current Actions

In order for the Department to meet its statutory responsibilities under the INA there is a need for an extension of an existing collection of information pertaining to employers' seeking to use H-1C nonimmigrant aliens as registered nurses.

Type of Review: Extension.

Agency: Employment and Training Administration.

Title: Attestations by Facilities Temporarily Employing H-1C Nonimmigrant Aliens as Registered Nurses.

OMB Number: 1205-0415.

Agency Number: Form ETA 9081.

Recordkeeping: Annually.

Affected Public: Businesses or other for-profit; Not-for-profit institutions.

Total Responses: 1.

Average Time Per Response: 1 hour.

Total Burden Cost (capital/startup): 0.

Total Burden Cost (operating/maintaining): $25 per response.

Comment Language: Comments submitted in response to this notice will be summarized and/or included in the request for Office of Management and Budget approval of the information collection request; they will also be become a matter of public record.

Signed at Washington D.C. this 22nd day of December, 2000.
Grace A. Kilbane,
Administrator, Office of Workforce Security.

[FR Doc. 01-728 Filed 1-9-01; 8:45 am]

BILLING CODE 4510-30-P